DEPARTMENT OF ENERGY

Federal Energy Regulatory Commission

[Project No. 14642-002]

San Diego County Water Authority, City of San Diego; Notice of Preliminary Permit Application Accepted for Filing and Soliciting Comments, Motions To Intervene, and Competing Applications

(June 28, 2018)

On May 1, 2018, the San Diego County Water Authority and the City of San Diego, California, jointly filed an application for a preliminary permit, pursuant to section 4(f) of the Federal Power Act (FPA), proposing to study the feasibility of the San Vicente Energy Storage Facility, to be located at San Vicente reservoir, in Lakeside, California. The sole purpose of a preliminary permit, if issued, is to grant the permit holder priority to file a license application during the permit term. A preliminary permit does not authorize the permit holder to perform any land-disturbing activities or otherwise enter upon lands or waters owned by others without the owners' express permission.

The proposed project would consist of an integration of existing facilities and the construction of new facilities:

The lower reservoir portion of the proposed project would consist of the following: (1) The existing San Vicente reservoir with a storage capacity of 246,000 acre-feet and a surface area of 1,600 acres at a normal maximum operating elevation of 766 feet above mean sea level (msl); (2) the existing 1,430-foot-long, 337-foot-high San Vicente roller compacted concrete (RCC) gravity dam; (3) a lower reservoir inlet/outlet structure equipped with trash racks and either one or two slide gates; (4) a new 230-kilovolt (kV) substation containing step-up transformers, circuit breakers, and disconnect switches; (5) a new switchyard constructed at the point of interconnection at the western edge of San Vicente Reservoir; (6) an approximately 5-mile-long, 230-kV overhead or underground transmission line that would extend from the northern end of San Vicente reservoir to the 230-kV Sycamore substation and interconnect with San Diego Gas and Electric's existing 500-kV Sunrise Powerlink; and (7) appurtenant facilities.

The upper reservoir portion of the proposed project would be constructed near Foster Canyon, approximately one-half mile northwest of the San Vicente reservoir and would consist of: (1) A reservoir with a storage capacity of 7,842 acre-feet and a surface area of 100 acres at a full pond elevation of 1,490 feet msl; (2) five RCC saddle dams impounding the reservoir and measuring, respectively: (i) 1,425 feet long and 230 feet high, (ii) 838 feet long and 80 feet high, (iii) 838 feet long and 80 feet high, (iv) 1,006 feet long and 240 feet high, and (v) 3,100 feet long and 30 feet high; (3) an upper reservoir inlet/outlet structure; (4) a 2,050-foot-long, 22-foot-diameter power tunnel transitioning into two 326-foot-long, steel-lined penstocks extending between the upper reservoir inlet/outlet and the pump/turbines below; (5) a 360-foot-long, 83-foot-wide, 119-foot-tall subsurface powerhouse containing four 125-megawatt vertical Francis variable speed reversible pump/turbine/generator units; (6) a 2,244-foot-long, 25-foot-diameter concrete-lined tailrace tunnel connecting the pump-turbine draft tubes to the lower reservoir inlet/outlet structure; (7) a 2,200-foot-long, 230-kV, underground transmission line extending from the upper reservoir to the northern end of San Vicente reservoir; and (7) appurtenant facilities.

The project would generate an estimated 1,300 gigawatt hours annually.

Applicant Contacts: (1) Mr. Gary Bousquet, Senior Engineering Manager, San Diego County Water Authority, 4677 Overland Avenue, San Diego, California 92123, phone: (858) 522-6823; and (2) Mr. Vic Barnes, Director of Public Utilities, City of San Diego, 9192 Topaz Way, San Diego, California, phone (858) 292-6401.

FERC Contact: John Mudre, phone: (202) 502-8902.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14642-002.

More information about this project, including a copy of the application, can be viewed or printed on the eLibrary link of Commission's website at http://www.ferc.gov/docs-filing/elibrary.asp. Enter the docket number (P-14642) in the docket number field to access the document. For assistance, contact FERC Online Support.

Dated: June 28, 2018.
Kimberly D. Bose,
Secretary.

[FR Doc. 2018-14569 Filed 7-6-18; 8:45 am]

BILLING CODE 6717-01-P